INTERNATIONAL TRADE COMMISSION

[USITC SE-03-013]

Sunshine Act Meeting

Agency Holding the Meeting: International Trade Commission.

Time and Date: May 29, 2003 at 11 a.m.

Place: Room 101, 500 E Street SW., Washington, DC 20436, Telephone: (202) 205-2000.

Status: Open to the public.

Matters to be Considered: 1. Agenda for future meetings: none.

2. Minutes.

3. Ratification List.

4. Inv. No. 731-TA-1033 (Preliminary) (Hydraulic Magnetic Circuit Breakers from South Africa)—briefing and vote. (The Commission is currently scheduled to transmit its determination to the Secretary of Commerce on May 29, 2003; Commissioners' opinions are currently scheduled to be transmitted to the Secretary of Commerce on or before June 5, 2003.)

5. Outstanding action jackets: none.

In accordance with Commission policy, subject matter listed above, not disposed of at the scheduled meeting, may be carried over to the agenda of the following meeting.

By order of the Commission.
Issued: May 20, 2003.
Marilyn R. Abbott,
Secretary to the Commission.

[FR Doc. 03-13052 Filed 5-20-03; 2:14 pm]

BILLING CODE 7020-02-P